DEPARTMENT OF ENERGY

Federal Energy Regulatory Commission

[Project No. 13-016]

Erie Boulevard Hydropower L.P. Green Island Power Authority; Notice of Transfer of Ownership Pursuant to an Order of Condemnation and Designation of New Licensee

January 3, 2001.

On July 14, 2000, as supplemented September 7, 2000, the Green Island Power Authority (Authority) filed a notice, in accordance with section 14(a) of the Federal Power Act (FPA), 16 U.S.C. 807(a), stating that on July 11, 2000, the Supreme Court of the State of New York entered an order of condemnation whereby the property that constitutes the licensed Green Island Project No. 13 was vested in the Authority. Project No. 13 is located on the Hudson River, at the U.S. Army Corps of Engineers' Troy Lock and Dam in Albany County, New York.¹

¹ The Commission issued the original license for the project to Henry Ford and Son, Inc., in 1921. See First Annual Report of the Federal Power Commission, pp. 110, 195. It issued a new license for the project to Niagara Mohawk Power Company in 1977. 57 FPC 817. The new license expires at the end of March 2, 2011. Recently, the Commission approved a transfer of the project license to Erie Boulevard Hydropower, L.P. 88 FERC ¶ 62,082 (1999), reh'g denied, 90 FERC ¶ 61,148 (2000).

Section 14(a) of the FPA states that “the right of the United States or any State or municipality to take over, maintain, and operate any project licensed under this Act at any time by condemnation proceedings upon payment of just compensation is hereby expressly reserved.” The Authority's filing demonstrate that it is “municipality” as defined in Section 3(8) of the FPA (16 U.S.C. 796(8)); that it has fulfilled the conditions of the condemnation court's order, which therefore vests the project's property in it; and that it intends to operate the project as the licensee.

In accordance with Section 14(a) of the FPA, the Authority is recognized as the licensee for Project No. 13.

David P. Boergers,
Secretary.

[FR Doc. 01-519 Filed 1-8-01; 8:45 am]

BILLING CODE 6717-01-M